DEPARTMENT OF ENERGY

Federal Energy Regulatory Commission

[Docket No. AD25-4-000]

Interregional Transfer Capability Study: Strengthening Reliability Through the Energy Transformation; Notice of Request for Comments

On November 19, 2024, the North American Electric Reliability Corporation (NERC) submitted to the Federal Energy Regulatory Commission (Commission) an Interregional Transfer Capability Study (ITC Study) pursuant to section 322 of the Fiscal Responsibility Act of 2023 (Fiscal Responsibility Act).¹ All interested persons are invited to file comments on this ITC Study no later than 60 days after the date of publication in the Federal Register. We request the public to submit comments in the format indicated below.

¹ Fiscal Responsibility Act of 2023, Public Law 118-5, 137 Stat 10, sec. 322 (2023).

In June 2023, Congress passed the Fiscal Responsibility Act, which requires the Commission-approved Electric Reliability Organization (i.e., NERC),² in consultation with each regional entity and each transmitting utility ³ that has facilities interconnected with a transmitting utility in a neighboring transmission planning region, to conduct a study of total transfer capability ⁴ between transmission planning regions. The Fiscal Responsibility Act requires the ITC Study to include:

² Federal Power Act (FPA) section 215 provides that the Commission may certify an Electric Reliability Organization, the purpose of which is to develop mandatory and enforceable Reliability Standards, subject to Commission review and approval. 16 U.S.C. 824o(c). The Commission subsequently certified NERC as the Electric Reliability Organization. N. Am. Elec. Reliability Corp., 116 FERC ¶ 61,062, order on reh'g and compliance, 117 FERC ¶ 61,126 (2006), aff'd sub nom. Alcoa, Inc. v. FERC, 564 F.3d 1342 (D.C. Cir. 2009).

³ Transmitting utility is defined in 16 U.S.C. 796 as “an entity (including an entity described in section 824(f) of [title 16]) that owns, operates, or controls facilities used for the transmission of electric energy—(A) in interstate commerce; (B) for the sale of electric energy at wholesale.”

⁴ 18 CFR 37.6(b)(1)(vi) (2024).

(1) Current total transfer capability between each pair of neighboring transmission planning regions.

(2) A recommendation of prudent additions to total transfer capability between each pair of neighboring transmission planning regions that would demonstrably strengthen reliability within and among such neighboring transmission planning regions.

(3) Recommendations to meet and maintain total transfer capability together with such recommended prudent additions to total transfer capability between each pair of neighboring transmission planning regions.

The Fiscal Responsibility Act requires NERC to submit the ITC Study to the Commission no later than 18 months after the date of enactment of the Act (i.e., by December 2, 2024). After the ITC Study is submitted to the Commission, the Commission must publish the study for public comment and, no later than 12 months after the end of the public comment period, submit a report on its conclusions to Congress and include recommendations, if any, for statutory changes.⁵

⁵ Fiscal Responsibility Act of 2023, Public Law 118-5, 137 Stat 10, sec. 322 (2023).

Comments may be filed electronically via the internet.⁶ Instructions are available on the Commission's website https://www.ferc.gov/docs-filing/efiling.asp. For assistance, please contact FERC Online Support at FERCOnlineSupport@ferc.gov or toll free at 1-866-208-3676, or for TTY, (202) 502-8659. Although the Commission strongly encourages electronic filing, documents may also be paper-filed. To paper-file, submissions sent via the U.S. Postal Service must be addressed to: Federal Energy Regulatory Commission, Office of the Secretary, 888 First Street NE, Washington, DC 20426. Submissions sent via any other carrier must be addressed to: Federal Energy Regulatory Commission, Office of the Secretary, 12225 Wilkins Avenue, Rockville, Maryland 20852.

⁶ See 18 CFR 385.2001(a)(1)(iii) (2024).

For more information about this Notice, please contact Jessica L. Cockrell at jessica.cockrell@ferc.gov or 202-502-8190. For legal information, please contact Gonzalo E. Rodriguez at gonzalo.rodriguez@ferc.gov or 202-502-8568.

Dated: November 25, 2024.
Debbie-Anne A. Reese,
Secretary.

[FR Doc. 2024-28251 Filed 12-2-24; 8:45 am]

BILLING CODE 6717-01-P